DEPARTMENT OF STATE

[Public Notice 5509]

U.S. National Commission for UNESCO Notice of Teleconference Meeting

The U.S. National Commission for UNESCO will hold a conference call on Wednesday, September 6, 2006 beginning at 11:30 a.m. Eastern Time. The open portion of the call should last one hour and will address recommendations from the Commission's Literacy Subcommittee and U.S. National Committee for the International Hydrological Program. Additional topic areas that relate to UNESCO may be discussed as needed.

The Commission will accept brief oral comments from members of the public during the open portion of this conference call. The public comment period will be limited to approximately fifteen minutes in total with about three minutes allowed per speaker. Members of the public who wish to present oral comments or listen to the conference call must make arrangements with the Executive Secretariat of the National Commission by September 1, 2006.

The second portion of the teleconference meeting will be closed to the public to allow the Commission to discuss applications for the UNESCO-L'OREAL Co-Sponsored Fellowships for Young Women in Life Sciences Program. It has been determined that this portion of the call will be closed to the public pursuant to section 10 (d) of the Federal Advisory Committee Act and 5 U.S.C. 552b [c] [6] because it is likely to involve discussion of information of a personal nature regarding the relative merits of individual applicants where disclosure would constitute a clearly unwarranted invasion of personal privacy.

For more information or to arrange to participate in the open portion of the teleconference meeting, contact Alex Zemek, Acting Executive Director of the U.S. National Commission for UNESCO, Washington, DC 20037. Telephone: (202) 663-0026; Fax: (202) 663-0035; E-mail: DCUNESCO@state.gov.

Dated: August 22, 2006.
Alex Zemek,
U.S. National Commission for UNESCO, Department of State.

[FR Doc. E6-14237 Filed 8-25-06; 8:45 am]

BILLING CODE 4710-19-P